ENVIRONMENTAL PROTECTION AGENCY

40 CFR Part 63

[EPA-HQ-OAR-2002-0037; FRL-9311-7]

RIN 2060-AN33

National Emission Standards for Hazardous Air Pollutants for Polyvinyl Chloride and Copolymers Production

AGENCY: Environmental Protection Agency (EPA).

ACTION: Proposed rule; notice of public hearings.

SUMMARY: The EPA published in the Federal Register on May 20, 2011, the proposed rule, National Emission Standards for Hazardous Air Pollutants for Polyvinyl Chloride and Copolymers Production. The EPA is announcing two public hearings to be held for the proposed rule.

DATES: The public hearings will be held on June 7, 2011, and June 9, 2011.

ADDRESSES: Public hearings will be held on June 7, 2011, in Houston, Texas, and on June 9, 2011, in Baton Rouge, Louisiana. The Houston, Texas, public hearing will be held at the Houston Marriott South at Hobby Airport in the Port Aransas/Brownsville Room, located at 9100 Gulf Freeway, Houston, Texas 77017; telephone: (713) 943-7979. The June 9, 2011, Baton Rouge, Louisiana, public hearing will be held in the Galvez Building, Olliver Pollock Room, Louisiana Department of Environmental Quality, located at 602 N. Fifth Street, Baton Rouge, Louisiana 70802. Parking is available in the garage located on North Street. A map of the Galvez Building can be found at the following link: http://www.deq.louisiana.gov/; telephone number (866) 896-5337.

The two public hearings will convene at 9 a.m. and continue until 8 p.m. (local time). The EPA will make every effort to accommodate all speakers that arrive and register before 8 p.m. A lunch break is scheduled from 12:30 p.m. until 2 p.m. and a dinner break is scheduled from 5 p.m. until 6:30 p.m. during the hearings. The EPA Web site for the rulemaking, which includes the proposal and information about the public hearings, can be found at: http://www.epa.gov/ttn/atw/pvc/pvcpg.html.

FOR FURTHER INFORMATION CONTACT: If you would like to present oral testimony at the public hearing, please contact Ms. Teresa Clemons, U.S. Environmental Protection Agency, Office of Air Quality Planning and Standards, Sector Policies and Programs Division (D205-01), Research Triangle Park, North Carolina 27711, telephone: (919) 541-0252, fax number: (919) 541-4991, e-mail address: clemons.teresa@epa.gov (preferred method for registering), no later than the close of business Tuesday, May 31, 2011, to register to present oral testimony. If using e-mail, please provide the following information: time you wish to speak (morning, afternoon, evening), name, affiliation, address, e-mail address, and telephone and fax numbers.

Questions concerning the May 20, 2011, proposed rule should be addressed to Ms. Jodi Howard, U.S. EPA, Office of Air Quality Planning and Standards, Refining and Chemicals Group (E143-01), Research Triangle Park, North Carolina 27711, telephone number: (919) 541-4607, e-mail address: howard.jodi@epa.gov.

Public hearing: The proposal for which EPA is holding the public hearings was published in the Federal Register on May 20, 2011, and is available at: http://www.epa.gov/ttn/atw/pvc/pvcpg.html, and also in the docket identified below. The public hearings will provide interested parties the opportunity to present oral comments regarding the EPA's proposed national emission standards for hazardous air pollutants, including data, views, or arguments concerning the proposal. The EPA may ask clarifying questions during the oral presentations, but will not respond to the presentations at that time. Written statements and supporting information submitted during the comment period will be considered with the same weight as any oral comments and supporting information presented at the public hearing.

Commenters should notify Ms. Clemons if they will need specific equipment, or if there are other special needs related to providing comments at the hearings, such as a translator. The EPA will provide equipment for commenters to show overhead slides or make computerized slide presentations if we receive special requests in advance. Oral testimony will be limited to 5 minutes for each commenter. The EPA encourages commenters to provide the Agency with a copy of their oral testimony electronically (via e-mail or CD), or in hard copy form.

The hearing schedules, including lists of speakers, will be posted on EPA's Web sites http://www.epa.gov/ttn/atw/pvc/pvcpg.html. Verbatim transcripts of the hearings and written statements will be included in the docket for the rulemaking.

EPA will make every effort to follow the schedule as closely as possible on the day of the hearings; however, please plan for the hearing to run either ahead of schedule or behind schedule.

How can I get copies of this document and other related information?

The EPA has established a docket for the proposed rule, National Emission Standards for Hazardous Air Pollutants for Polyvinyl Chloride and Copolymers Production, under Docket ID No. EPA-HQ-OAR-2002-0037 (available at http://www.regulations.gov).

List of Subjects in 40 CFR Part 63

Environmental protection, Administrative practice and procedure, Air pollution control, Hazardous substances, Intergovernmental relations, Reporting and recordkeeping requirements.

Dated: May 20, 2011.
Alan Rush,
Acting Director, Office of Air Quality Planning and Standards.

[FR Doc. 2011-13102 Filed 5-25-11; 8:45 am]

BILLING CODE 6560-50-P